DEPARTMENT OF HOUSING AND URBAN DEVELOPMENT

[Docket No. ER-4407-N-03]

The Performance Review Board

AGENCY: Office of the Deputy Secretary, HUD.

ACTION: Notice of Appointment.

SUMMARY: The Department of Housing and Urban Development announces the appointments of Vickers B. Meadows as Vice Chairperson, and Frank L. Davis and Dexter J. Sidney as members of the Departmental Performance Review Board. The address is: Department of Housing and Urban Development, Washington, DC 20410.

FOR FURTHER INFORMATION CONTACT: Persons desiring any further information about the Performance Review Board and its members may contact Earnestine Pruitt, Director, Executive Personnel Management Division, Department of Housing and Urban Development, Washington, DC 20410, Telephone (202) 708-1381. (This is not a toll-free number)

Dated: August 23, 2002.
Alphonso Jackson,
Deputy Secretary, Department of Housing and Urban Development.

[FR Doc. 02-22208 Filed 8-29-02; 8:45 am]

BILLING CODE 4210-32-M